DEPARTMENT OF AGRICULTURE

Office of the Secretary

Notice of Appointment of Members to the National Agricultural Research, Extension, Education, and Economics Advisory Board

AGENCY: Research, Education, and Economics, USDA.

ACTION: Appointment of Members.

SUMMARY: In accordance with the Federal Advisory Committee Act, 5 U.S.C. App 2, the United States Department of Agriculture announces the appointments made by the Secretary of Agriculture to the 12 vacancies on the National Agricultural Research, Extension, Education, and Economics Advisory Board.

DATES: Appointments by the Secretary of Agriculture are for a 3-year term, effective October 1, 2006, until September 30, 2009 with the exception of Category CC, which is a 2-year term expiring on September 30, 2008.

ADDRESSES: You may submit comments by any of the following methods: E-mail: joseph.dunn@usda.gov; Fax: 202-720-6199; Mail/Hand Delivery/Courier: National Agricultural Research, Extension, Education, and Economics Advisory Board; Research Extension, Education, and Economics Advisory Board Office, Room 344A, Jamie L. Whitten Building, U.S. Department of Agriculture; STOP 2255; 1400 Independence Avenue, SW., Washington, DC 20250-2255.

FOR FURTHER INFORMATION CONTACT: Joseph Dunn, Executive Director, National Agricultural Research, Extension, Education, and Economics Advisory Board, Telephone: 202-720-3684.

SUPPLEMENTARY INFORMATION: Section 802 of the Federal Agriculture Improvement and Reform Act of 1996 authorized the creation of the National Agricultural Research, Extension, Education, Economics Advisory Board. The Board is composed of 31 members, each representing a specific category related to agriculture. The Board was first appointed in September 1996 and at the time one-third of the original members were appointed for one, two, and three-year terms, respectively. Due to the staggered appointments, the terms for 12 of the 31 members expired in September 2006. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 9 new members and 3 re-appointments are as follows: Category A. “National Farm Organization,” Joseph H. Layton, Owner and Operator, Lazy Day Farms, LLC, Vienna, MD; Category C. “Food and Animal Commodity Producer,” Carol A. Keiser-Long, President, C-BAR Cattle Co. Inc.; and President, C-ARC Enterprises, Inc., Champaign, IL; Category E. “National Animal Commodity,” George P. Watts, President, National Chicken Council, Washington, DC; Category F. “National Crop Commodity,” Charles B. Coley, President, Coley Gin & Fertilizer Company/Managing Partners; Coley Farms, Vienna, GA; Category K. “National Human Health Association,” John Cunningham, Deputy Provost and Professor of Nutrition, University of Massachusetts, Amherst, MA; Category P. “Hispanic-Serving Institutions,” Ricardo Chavez Rel, Assistant to the Dean, Agricultural Experiment Station, Cooperative Extension Service, College of Agriculture & Home Economics, Las Cruces, NM; Category R. “Non Land-Grant College and University with a Historic Commitment to Research in Food and Agricultural Science,” James R. Clark, Dean and Vice Chancellor, College of Agriculture, Science and Engineering, West Texas A&M University, Canyon, TX; Category T. “Transportation of Food and Agricultural Products to Domestic and Foreign Markets”, James Lugg, Executive Vice-President Fresh Express/President TransFRESH Corporation, Salinas, CA, Category V, “Food and Fiber Processors,” Mary Wagner, Chief Technology Officer, E & J Gallo Winery, Modesto, CA; Category AA. “Private Sector Organization involved in International Development,” William J. Hudson, President & CEO, World Food Logistics Organization, Alexandria, VA; Category CC. “Research Agency of the Federal Government Other than USDA, David Thomassen, Chief Scientist, U.S. Department of Energy, Washington, DC; Category DD. “National Social Science Association”, James J. Zuiches, Vice Chancellor, North Carolina State University, Raleigh, NC.

Done at Washington, DC, this 18th day of October 2006.
Merle Pierson,
Deputy Under Secretary, Research, Education, and Economics.

[FR Doc. E6-17793 Filed 10-23-06; 8:45 am]

BILLING CODE 3410-22-P